DEPARTMENT OF LABOR

Employment and Training Administration

[TA-W-52,474]

Kulicke and Soffa Industries, Austin, Texas; Notice of Negative Determination on Reconsideration

On November 18, 2003, the Department issued an Affirmative Determination Regarding Application for Reconsideration for the workers and former workers of the subject firm. The notice will soon be published in the Federal Register.

The Department initially denied TAA to workers of Kulicke and Soffa Industries, Austin, Texas because the “contributed importantly” and shift of production group eligibility requirements of section 222(3) of the Trade Act of 1974, as amended, were not met. The investigation revealed that the cause of the worker separations was a domestic shift of production.

In the request for reconsideration, the petitioner alleged that the subject company shifted production to China.

During the reconsideration investigation, the Department requested additional information from the subject company regarding the alleged shift of production.

The investigation revealed that the subject company shifted production from the subject facility to another Texas facility in 2001, and shifted production from Texas to California in 2003.

Further, while the subject company has sent two employees to China, the employees are assisting in a shift of production from California to China and the shift will not occur until 2004.

Conclusion

After reconsideration, I affirm the original notice of negative determination of eligibility to apply for worker adjustment assistance for workers and former workers of Kulicke and Soffa Industries, Austin, Texas.

Signed in Washington, DC, this 12th day of December, 2003.
Elliott S. Kushner,
Certifying Officer, Division of Trade Adjustment Assistance.

[FR Doc. 04-307 Filed 1-6-04; 8:45 am]

BILLING CODE 4510-30-P